Executive Order 13316 of September 17, 2003

Continuance of Certain Federal Advisory Committees

By the authority vested in me as President by the Constitution and the laws of the United States of America, and in accordance with the provisions of the Federal Advisory Committee Act, as amended (5 U.S.C. App.), it is hereby ordered as follows:

Section 1. Each advisory committee listed below is continued until September 30, 2005.

(a) Committee for the Preservation of the White House; Executive Order 11145, as amended (Department of the Interior).

(b) National Infrastructure Advisory Council; Section 3 of Executive Order 13231, as amended (Department of Homeland Security).

(c) Federal Advisory Council on Occupational Safety and Health; Executive Order 12196, as amended (Department of Labor).

(d) President's Board of Advisors on Historically Black Colleges and Universities; Executive Order 13256 (Department of Education).

(e) President's Board of Advisors on Tribal Colleges and Universities; Executive Order 13270 (Department of Education).

(f) President's Commission on White House Fellowships; Executive Order 11183, as amended (Office of Personnel Management).

(g) President's Committee on the Arts and the Humanities; Executive Order 12367, as amended (National Endowment for the Arts).

(h) President's Committee on the International Labor Organization; Executive Order 12216, as amended (Department of Labor).

(i) President's Committee on the National Medal of Science; Executive Order 11287, as amended (National Science Foundation).

(j) President's Council on Bioethics; Executive Order 13237 (Department of Health and Human Services).

(k) President's Council on Physical Fitness and Sports; Executive Order 13265 (Department of Health and Human Services).

(l) President's Export Council; Executive Order 12131, as amended (Department of Commerce).

(m) President's National Security Telecommunications Advisory Committee; Executive Order 12382, as amended (Department of Homeland Security).

(n) Trade and Environment Policy Advisory Committee; Executive Order 12905 (Office of the United States Trade Representative).

Sec. 2. Notwithstanding the provisions of any other Executive Order, the functions of the President under the Federal Advisory Committee Act that are applicable to the committees listed in section 1 of this order shall be performed by the head of the department or agency designated after each committee, in accordance with the guidelines and procedures established by the Administrator of General Services.

Sec. 3. The following Executive Orders, or sections thereof, which established committees that have terminated or whose work is completed, are revoked:

(a) Sections 5 through 7 of Executive Order 13111, as amended by Executive Order 13188 and Section 3(a) of Executive Order 13218, pertaining to the establishment of the Advisory Committee on Expanding Training Opportunities;

(b) Executive Order 12975, as amended by Executive Orders 13018, 13046, and 13137, establishing the National Bioethics Advisory Commission;

(c) Executive Order 13227, as amended by Executive Order 13255, establishing the President's Commission on Excellence in Special Education;

(d) Executive Order 13278, establishing the President's Commission on the United States Postal Service;

(e) Executive Order 13210, establishing the President's Commission to Strengthen Social Security;

(f) Sections 5 through 8 of Executive Order 13177, pertaining to the establishment of the President's Council on the Use of Offsets in Commercial Trade;

(g) Executive Order 13263, establishing the President's New Freedom Commission on Mental Health;

(h) Executive Order 13214, establishing the President's Task Force to Improve Health Care Delivery for Our Nation's Veterans; and

(i) Executive Order 13147, as amended by Executive Order 13167, establishing the White House Commission on Complementary and Alternative Medicine Policy.

Sec. 4. Executive Order 13225 is superseded.

Sec. 5. Section 1-102(a) of Executive Order 12131, as amended, is further amended to read as follows:

“(a) The heads of the following executive agencies or their representatives:

(1) Department of State.

(2) Department of the Treasury.

(3) Department of Agriculture.

(4) Department of Commerce.

(5) Department of Labor.

(6) Department of Energy.

(7) Department of Homeland Security.

(8) Office of the United States Trade Representative.

(9) Export-Import Bank of the United States.

(10) Small Business Administration.”

Sec. 6. This order shall be effective September 30, 2003.

B

THE WHITE HOUSE,

September 17, 2003.

[FR Doc. 03-24217

Filed 9-22-03; 11:38 am]

Billing code 3195-01-P